DEPARTMENT OF COMMERCE

National Oceanic and Atmospheric Administration

RIN 0648-XD477

Takes of Marine Mammals Incidental to Specified Activities; U.S. Navy Joint Logistics Over-the-Shore Training in Virginia and North Carolina

AGENCY: National Marine Fisheries Service (NMFS), National Oceanic and Atmospheric Administration (NOAA), Commerce.

ACTION: Notice; receipt of application for letter of authorization; request for comments and information.

SUMMARY: NMFS has received a request from the U.S. Navy (Navy) for authorization to take marine mammals incidental to conducting Joint Logistics Over-the-Shore (JLOTS) training activities in Virginia and North Carolina, from June 2015 through June 2020. Pursuant to the Marine Mammal Protection Act (MMPA), NMFS is announcing our receipt of the Navy's request for the development and implementation of regulations governing the incidental taking of marine mammals and inviting information, suggestions, and comments on the Navy's application and request.

DATES: Comments and information must be received no later than October 15, 2014.

ADDRESSES: Comments on the application should be addressed to Jolie Harrison, Chief, Permits and Conservation Division, Office of Protected Resources, National Marine Fisheries Service, 1315 East-West Highway, Silver Spring, MD 20910. The mailbox address for providing email comments is ITP.Guan@noaa.gov. NMFS is not responsible for email comments sent to addresses other than the one provided here. Comments sent via email, including all attachments, must not exceed a 25-megabyte file size.

Instructions: All comments received are a part of the public record and will generally be posted to http://www.nmfs.noaa.gov/pr/permits/incidental.htm without change. All Personal Identifying Information (for example, name, address, etc.) voluntarily submitted by the commenter may be publicly accessible. Do not submit Confidential Business Information or otherwise sensitive or protected information.

A copy of the Navy's application may be obtained by visiting the internet at: http://www.nmfs.noaa.gov/pr/permits/incidental.htm. Documents cited in this notice may also be viewed, by appointment, during regular business hours, at the aforementioned address.

FOR FURTHER INFORMATION CONTACT: Shane Guan, Office of Protected Resources, NMFS, (301) 427-8401.

SUPPLEMENTARY INFORMATION:

Background

Sections 101(a)(5)(A) and (D) of the MMPA (16 U.S.C. 1361 et seq.) direct the Secretary of Commerce to allow, upon request, the incidental, but not intentional, taking of small numbers of marine mammals by United States citizens who engage in a specified activity (other than commercial fishing) within a specific geographical region if certain findings are made and either regulations are issued or, if the taking is limited to harassment, a notice of a proposed authorization is provided to the public for review.

Authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth. NMFS has defined “negligible impact” in 50 CFR 216.103 as “ . . . an impact resulting from the specified activity that cannot be reasonably expected to, and is not reasonably likely to, adversely affect the species or stock through effects on annual rates of recruitment or survival.”

With respect to military readiness activities, the MMPA defines “harassment” as: “(i) Any act that injures or has the significant potential to injure a marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].”

Summary of Request

On August 20, 2014, NMFS received an application from the Navy requesting a letter of authorization (LOA) for the take of bottlenose and Atlantic spotted dolphins incidental to the Navy's JLOTS training activities in nearshore waters at the Joint Expeditionary Base (JEB) Little Creek-Fort Story in Virginia and at Camp Lejeune in North Carolina. The Navy is requesting a 5-year LOA for these activities. These activities are classified as military readiness activities. The Navy states that these activities may result in take of marine mammals from noise or visual disturbance from temporary pier construction associated with the JLOTS training activities. The Navy requests to take bottlenose and Atlantic spotted dolphins by Level B harassment.

Description of the Specified Activity

JLOTS training is the movement of cargo and personnel from ships to shore in areas that do not have existing fixed port facilities. Among the several coordinated exercises of the JLOTS training, the only activity that has the potential to harass marine mammals is the construction of the Elevated Causeway System, Modular [ELCAS(M)] by introducing noise into the water.

The ELCAS (M) is a temporary pier constructed from the beach into the water past the surf zone. It provides a means of delivering containers, vehicles, and bulk cargo ashore without lighterage craft having to enter the surf zone. The ELCAS (M) consists of a series of 24- by 40-ft. (7.3- by 12.2-m) pontoon sections joined together and supported by piles driven into the sea floor.

To build the pier, piles are driven into the sand with a diesel-powered impact hammer. The piles used typically are hollow, half-inch steel uncapped piles, 24 inches (0.5 m) in diameter, and can be of various lengths (38 ft. [11.6 m], 57 ft. [17.4 m], or 76 ft. [23.2 m]) depending on local bathymetry. The depth to which the piles are driven is between 30 and 40 ft. (9.1 to 12.2 m) and installation takes approximately 15 minutes per pile. Typically, 6 piles would be installed in a day. Two pile drivers are generally used, but not simultaneously: while one is driving a pile, the other is being re-positioned for the next pile. Construction may take up to 20 days. A pier length of 1,500 ft (457 m) is typical for training, with approximately 119 supporting piles.

Once the ELCAS (M) is constructed, offloading operations are similar to those of a conventional pier. Container-handling operations consist primarily of transferring containers from lighterage vessels (e.g., Landing Craft Utility or Landing Craft Mechanized) to the pier. Empty trucks or trailers are driven onto a turntable at the seaward end of the ELCAS (M) and are loaded with containers using the same cranes from construction. The ELCAS (M) is wide enough to accommodate two-way traffic. Rolling stock may be lifted by crane to the pier and driven to the beach as well. Operations typically involve the use of two forklifts and an average of six cargo trucks a day during the exercise. Power for the operation of the turntable and the lighting of the ELCAS (M) is provided by up to two 30-kilowatt (kW) and two 100-kW generators.

The ELCAS (M) is dismantled by removing the pontoon sections and extracting the piles with a vibratory hammer, which takes approximately 6 minutes per pile, over the course of 10 days. Typically, 12 piles are removed in a day. On the beach, the modified area re-graded to its original elevation.

Information Solicited

Interested persons may submit information, suggestions, and comments concerning the Navy's request (see ADDRESSES). All input related to the Navy's request and NMFS' role in governing the incidental taking of marine mammals will be considered by NMFS when developing, if appropriate, the most effective regulations governing the issuance of an LOA.

Dated: September 9, 2014.
Donna S. Wieting,
Director, Office of Protected Resources, National Marine Fisheries Service.

[FR Doc. 2014-21886 Filed 9-12-14; 8:45 am]

BILLING CODE 3510-22-P